DEPARTMENT OF THE INTERIOR

Bureau of Land Management

[LLWO350000 1440000 PN0000; OMB Control Number 1004-0029]

Agency Information Collection Activities; Color-of-Title Application

AGENCY: Bureau of Land Management, Interior.

ACTION: Notice of information collection; request for comment.

SUMMARY: In accordance with the Paperwork Reduction Act of 1995, the Bureau of Land Management (BLM) is proposing to renew an information collection.

DATES: Interested persons are invited to submit comments on or before June 11, 2018.

ADDRESSES: Send your comments on this information collection request (ICR) by mail to the U.S. Department of the Interior, Bureau of Land Management, 1849 C Street NW, Room 2134LM, Washington, DC 20240, Attention: Jean Sonneman; or by email to jesonnem@blm.gov. Please reference OMB Control Number 1004-0029 in the subject line of your comments.

FOR FURTHER INFORMATION CONTACT: To request additional information about this ICR, contact Pamela Ridley by email at pridley@blm.gov or by telephone at (202) 853-0522.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format. We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Color-of-Title Act (43 U.S.C. 1068, 1068a, and 1068b) provides for the issuance of a land patent to a tract of public land of up to 160 acres, where the claimant shows peaceful, adverse possession of the tract in good faith for more than 20 years, as well as sufficient improvement or cultivation of the land. The information covered in this control number enables the Bureau of Land Management (BLM) to determine whether or not such a claimant has made a showing that is sufficient to obtain a land patent under the Act.

Title of Collection: Color-of-Title Application.

OMB Control Number: 1004-0029.

Form Numbers: 2540-1, 2540-2, and 2540-3.

Type of Review: Extension of a currently approved collection.

Respondents/Affected Public: Individuals, groups, and corporations that request a land patent under the Color-of-Title Act.

Total Estimated Number of Annual Respondents: 7.

Total Estimated Number of Annual Responses: 7.

Estimated Completion Time per Response: 3 hours.

Total Estimated Number of Annual Burden Hours: 21 hours.

Respondent's Obligation: Required to obtain or retain a benefit.

Frequency of Collection: On occasion.

Total Estimated Annual Nonhour Burden Cost: $70 (7 applications annually x $10 per application).

An agency may not conduct or sponsor and a person is not required to respond to a collection of information unless it displays a currently valid OMB control number. The authority for this action is the Paperwork Reduction Act of 1995 (44 U.S.C. 3501 et seq).

Jean Sonneman,
Information Collection Clearance Officer, Bureau of Land Management.

[FR Doc. 2018-07481 Filed 4-10-18; 8:45 am]

BILLING CODE 4310-84-P